FEDERAL MEDIATION AND CONCILIATION SERVICE

Succession Plan for the FMCS

AGENCY: Federal Mediation and Conciliation Service (FMCS).

ACTION: Notice of succession plan for the FMCS.

SUMMARY: The Federal Mediation and Conciliation Service (FMCS), is issuing this notice to inform the public of the succession plan for the Federal Mediation and Conciliation Service (FMCS) provided by the Director of FMCS. This notice supersedes all prior succession plans issued by the agency for officials performing the functions and duties of the Director of FMCS.

DATES: This Succession Plan for the FMCS is effective August 2, 2023.

FOR FURTHER INFORMATION CONTACT: For specific questions related to this notice, please contact Gregory Goldstein, 202-606-8111, ggoldstein@fmcs.gov.

SUPPLEMENTARY INFORMATION: By the authority vested in the Director of the Federal Mediation and Conciliation Service (FMCS) by 29 U.S.C. 172, and to provide for the continuity of essential operations of the FMCS in all circumstances, this Notice provides the succession plan of officials authorized to perform the functions and duties of the Director of the Federal Mediation and Conciliation Service. The following is the succession plan of officials hereby ordered:

Order of Succession

During any period in which the Director has died, resigned, or otherwise become unable to perform the functions and duties of the Office of the Director, and there is no Acting Director serving under the Federal Vacancies Reform Act of 1998, 5 U.S.C. 3345-3349d, the following officers of the FMCS, in the order listed, are hereby delegated the authority to perform the functions and duties of the Director, to the extent permitted by law:

1. Principal Deputy, Chief Operating Officer;

2. Deputy Director, Field Operations;

3. Deputy Director for Policy and Strategy;

4. Director, Procurement and Operational Support;

5. General Counsel;

6. Associate Deputy Director for Field Operations, National;

7. Associate Deputy Director for Field Operations, Regional;

8. Director, Human Resources; and

9. Director, Budget.

No individual who is serving in an office listed in this order in an acting capacity, by virtue of so serving, shall be delegated the functions and duties of the Director.

Dated: July 28, 2023.
Gregory Goldstein,
FMCS Acting Director.

[FR Doc. 2023-16421 Filed 8-1-23; 8:45 am]

BILLING CODE 6732-01-P